SMALL BUSINESS ADMINISTRATION

Region IV Advisory Council Meeting; Public Meeting

The Southeastern States Regulatory Fairness Board will hold a public hearing on August 1, 2000, at 9 a.m. located at Tougaloo College, Health and Wellness Center, 500 W. County Line Road, Tougaloo, Mississippi to receive comments and testimony from small businesses and representatives of trade associations concerning federal regulatory enforcement or compliance actions taken by federal agencies. Transcripts of these proceedings will be posted on the Internet. These transcripts are subject only to limited review by the National Ombudsman. For further information, call Elestine Harvey (312) 353-1744.

Bettie Baca,
Counselor to the Administrator/Public Liaison.

[FR Doc. 00-16980 Filed 7-5-00; 8:45 am]

BILLING CODE 8025-01-P